DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2012, there was one application approved. Additionally, one approved amendment to a previously approved application is listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Louisville Regional Airport Authority, Louisville, Kentucky.

Application Number: 12-07-C-00-SDF.

Application Type: Impose and use a PFC.

PFC Level: $4.50.

Total PFC Revenue Approved in This Decision: $2,250,000.

Earliest Charge Effective Date: December 1, 2016.

Estimated Charge Expiration Date: April 1, 2017.

Class of Air Carriers Not Required To Collect PFC'S:

Air taxi commercial operators filing FAA Form 1800-31 which operate at Louisville International Airport (SDF).

Determination: Approved. Based on information contained in the public agency's application, the FAA has determined that the approved class accounts for less than 1 percent of the total annual enplanements at SDF.

Brief Description of Projects Approved for Collection and Use:

Jet bridges acquisition.

Jet bridges rehabilitation and installation of pre-conditioned air units.

Decision Date: December 10, 2012.

FOR FURTHER INFORMATION CONTACT: Cynthia Wills, Memphis Airports District Office, (901) 322-8190.

Amendments to PFC Approvals
Amendment No., City, State | Amendment approved date | Original approved net PFC revenue | Amended approved net PFC revenue | Original estimated charge exp. date | Amended estimated charge exp. date
09-03-C-01-CLT, Charlotte, NC. | 11/30/12 | $80,765,972 | $79,265,972 | 07/01/20 | 07/01/20

Issued in Washington, DC, on September 4, 2013.
Joe Hebert,
Manager, Financial Analysis and Passenger Facility Charge Branch.

[FR Doc. 2013-22563 Filed 9-16-13; 8:45 am]

BILLING CODE 4910-13-P